DEPARTMENT OF STATE

[Public Notice 7607]

Shipping Coordinating Committee; Notice of Committee Meeting

The Shipping Coordinating Committee (SHC) will conduct an open meeting at 1 p.m. on Thursday, June 14, 2012, in Room 5-1224 of the United States Coast Guard Headquarters Building, 2100 Second Street SW., Washington, DC 20593-0001. The primary purpose of the meeting is to prepare for the fifty-fifth Session of the International Maritime Organization's (IMO's) Subcommittee on Stability and Load Lines and on Fishing Vessels Safety (SLF) to be held at the IMO Headquarters, United Kingdom, February 18-22, 2013.

The matters to be discussed on the agenda include:

—Adoption of the agenda

—Decisions of other IMO bodies

—Development of second generation intact stability criteria

—Development of guidelines on safe return to port for passenger ships

—Development of guidelines for verification of damage stability requirements for tankers

—Review of the damage stability regulations for ro-ro passenger ships

—Revision of SOLAS chapter II-1 subdivision and damage stability regulations

—Development of provisions to ensure the integrity and uniform implementation of the 1969 TM Convention

—Development of amendments to part B of the 2008 IS Code on towing and anchor handling operations

—Consideration of IACS unified interpretations

—Development of amendments to the criterion for maximum angle of heel in turns of the 2008 IS Code

—Biennial agenda and provisional agenda for SLF 56

—Election of Chairman and Vice-Chairman for 2014

—Any other business

—Report to the Maritime Safety Committee

Members of the public may attend this meeting up to the seating capacity of the room. To facilitate the building security process, and to request reasonable accommodation, those who plan to attend should contact the meeting coordinator, LCDR Catherine Phillips, by email at Catherine.A.Phillips@uscg.mil, by phone at (202) 372-1374, by fax at (202) 372-1925, or in writing at Commandant (CG-5212), U.S. Coast Guard, 2100 2nd Street SW., Stop 7126, Washington, DC 20593-7126 not later than June 7, 2012, 7 days prior to the meeting. Requests made after June 7, 2012 might not be able to be accommodated. Please note that due to security considerations, two valid, government issued photo identifications must be presented to gain entrance to the Headquarters building. The Headquarters building is accessible by taxi and privately owned conveyance (public transportation is not generally available). However, parking in the vicinity of the building is extremely limited. Additional information regarding this and other IMO SHC public meetings may be found at: www.uscg.mil/imo.

Dated: April 6, 2012.
Brian Robinson,
Executive Secretary, Shipping Coordinating Committee, Department of State.

[FR Doc. 2012-8830 Filed 4-11-12; 8:45 am]

BILLING CODE 4710-09-P